DEPARTMENT OF TRANSPORTATION

Federal Aviation Administration

14 CFR Part 39

[Docket No. FAA-2013-0541; Directorate Identifier 2011-NM-097-AD]

RIN 2120-AA64

Airworthiness Directives; The Boeing Company Airplanes

AGENCY: Federal Aviation Administration (FAA), Department of Transportation (DOT).

ACTION: Proposed rule; withdrawal.

SUMMARY: The FAA withdraws a notice of proposed rulemaking (NPRM) that would supersede certain existing airworthiness directives (ADs) for The Boeing Company Model 757-200, -200PF, and -200CB series airplanes. The NPRM proposed to require a determination of the type of trailing edge wedges of the leading edge slats, repetitive inspections on certain trailing edge wedges for areas of skin-to-core disbonding, and corrective actions if necessary; and proposed to revise the applicability of the existing ADs to include additional airplanes. The NPRM also provided an optional terminating action for the repetitive inspections. Since we issued the NPRM, we have determined that the manufacturer's service information is inadequate to accomplish the actions necessary to address the unsafe condition. Once the manufacturer has issued new service information to address the unsafe condition, we may issue new rulemaking action that positively addresses the unsafe condition identified in the NPRM. Accordingly, the NPRM is withdrawn.

DATES: As of May 28, 2014, the proposed rule, which was published in the Federal Register on July 2, 2013 (78 FR 39633), is withdrawn.

ADDRESSES: You may examine the AD docket on the Internet at http://www.regulations.gov by searching for and locating Docket No. FAA-2013-0541; or in person at the Docket Management Facility between 9 a.m. and 5 p.m., Monday through Friday, except Federal holidays. The AD docket contains this AD action, the NPRM (78 FR 39633, July 2, 2013), the regulatory evaluation, any comments received, and other information. The address for the Docket Office (telephone 800-647-5527) is the Docket Management Facility, U.S. Department of Transportation, Docket Operations, M-30, West Building Ground Floor, Room W12-140, 1200 New Jersey Avenue SE., Washington, DC 20590.

FOR FURTHER INFORMATION CONTACT: Nancy Marsh, Aerospace Engineer, Airframe Branch, ANM-120S, FAA, Seattle Aircraft Certification Office, 1601 Lind Avenue SW., Renton, WA 98057-3356; phone: 425-917-6440; fax: 425-917-6590; email: Nancy.Marsh@faa.gov.

SUPPLEMENTARY INFORMATION:

Discussion

We proposed to amend part 39 of the Federal Aviation Regulations (14 CFR part 39) with a notice of proposed rulemaking (NPRM) for a new AD to supersede AD 90-23-06, Amendment 39-6794 (55 FR 46499, November 5, 1990; AD 91-22-51, Amendment 39-8129 (57 FR 781, January 9, 1992; and AD 2005-07-08, Amendment 39-14032 (70 FR 16403, March 31, 2005), for certain Model 757-200, -200PF, and -200CB series airplanes. The NPRM published in the Federal Register on July 2, 2013 (78 FR 39633). The NPRM proposed to require a determination of the type of trailing edge wedges of the leading edge slats, repetitive inspections on certain trailing edge wedges for areas of skin-to-core disbonding, and corrective actions if necessary; and proposed to revise the applicability of ADs 90-23-06, 91-22-51, and 2005-07-08 to include additional airplanes. The NPRM also provided an optional terminating action for the repetitive inspections. The NPRM was prompted by reports of slat disbonding on airplanes on which the terminating actions of ADs 90-23-06, 91-22-51, and 2005-07-08 were completed; and we have received reports of slats disbonding on airplanes outside of the applicability of ADs 90-23-06, 91-22-51, and 2005-07-08.

Actions Since the NPRM (78 FR 39633, July 2, 2013) Was Issued

Since we issued the NPRM (78 FR 39633, July 2, 2013), we have determined that the manufacturer's service information is inadequate to accomplish the actions necessary to address the unsafe condition.

FAA's Conclusions

We have determined that the unsafe condition identified in the NPRM (78 FR 39633, July 2, 2013) still exists. Once the manufacturer has issued new service information to address the unsafe condition, we may issue new rulemaking action that positively addresses the unsafe condition identified in the NPRM. Accordingly, the NPRM is withdrawn.

Withdrawal of the NPRM (78 FR 39633, July 2, 2013) does not preclude the FAA from issuing the related actions or commit the FAA to any course of action in the future.

Regulatory Impact

Since this action only withdraws the NPRM (78 FR 39633, July 2, 2013), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2013-0541, Directorate Identifier 2011-NM-097-AD, which published in the Federal Register on July 2, 2013 (78 FR 39633).

Issued in Renton, Washington, on May 16, 2014.
Michael Kaszycki,
Acting Manager, Transport Airplane Directorate, Aircraft Certification Service.

[FR Doc. 2014-12258 Filed 5-27-14; 8:45 am]

BILLING CODE 4910-13-P